DEPARTMENT OF COMMERCE

Department of Commerce Business Forum

AGENCY: U.S. Department of Commerce.

ACTION: Notice of a public meeting and request for comments.

SUMMARY: The United States Department of Commerce (DOC) is seeking vendors that currently conduct business with, or have previously conducted business with or hope to conduct business with DOC. Interested parties are asked to offer comments on the DOC acquisition function for the purpose of strengthening the process. Parties may offer oral comments at a public meeting to be held on August 10, 2010. Parties are also encouraged to provide written comments.

DATES: A public meeting will be conducted on August 10, 2010, at 1 p.m. Eastern time and will end no later than 4 p.m. Eastern time.

The public is asked to pre-register by 5 p.m. Eastern time on August 6, 2010, due to security precautions and seating limitations. Registration is on a first-come first-served basis and space is limited. To preregister, please send an e-mail to DOCBusinessForumRegistration@doc.gov with attending personnel names, business represented, along with contact information and the topics of interest (see topics below). Please put “Registration” in the subject line of the e-mail. Registration on August 10, 2010 at the meeting location will begin at 12 p.m. Eastern time on August 10, 2010 and the meeting will start at 1 p.m. Eastern time.

ADDRESSES: The meeting will be held in the auditorium of the Department of Commerce. The auditorium is located off the main lobby of the Department of Commerce building at 1401 Constitution Avenue, NW., Washington DC 20230.

The public meeting will be physically accessible to people with disabilities. Request for sign language interpretation or other auxiliary aids should be directed to DOCBusinessForumRegistration@doc.gov by August 6, 2010. Please put “Accommodations” in the subject line.

In lieu of, or in addition to, participating in the public meeting, interested parties may submit written comments to DOCBusinessForumComment@doc.gov by August 31, 2010. Please put “Comment” in the subject line. Because DOC would like to implement possible suggestions to strengthen acquisition relations within the business community, interested parties wishing to have their comments considered in connection with this process must submit their comments by 5 p.m. Eastern time on August 31, 2010. Comments received after this date, but before DOC completes its work, may be considered in follow-up implementation efforts, as appropriate.

FOR FURTHER INFORMATION CONTACT: For clarification of the subject matter related to the memorandum: E-mail DOCBusinessForumRegistration@doc.gov. Please put “Question” in the subject line.

SUPPLEMENTARY INFORMATION: The purpose of the meeting is to encourage public comment on ways DOC can improve its acquisition processes and relationship with the business community. A list of topics are provided at the end of this notice. Parties wishing to make oral or written comments are especially encouraged to provide comment on these issues for DOC consideration.

DOC welcomes public comments on DOC's acquisition function best practices, opportunities for improvement, and challenges related to business contracting and seeks public input on the issues described below:

General Impressions of the DOC Acquisition function: DOC is looking to strengthen the acquisition function and would like to hear your comments and suggestions on improving the DOC acquisition process to help businesses, thoughts on developing well defined solicitations, suggestions to ensure DOC's evaluation criteria is well defined, making debriefings useful and your thoughts and suggestions on some key processes that can be implemented to improve the DOC acquisition function.

DOC Acquisition Personnel: In order to strengthen the acquisition function key personnel such as contracting officers, contracting specialist and purchasing agents are vital to maintain a healthy acquisition function. DOC wants to hear your thoughts, suggestions and comments on accessibility, helpfulness and knowledge of the acquisition personnel, program offices, OSDBU and small business specialists when seeking to gain a contract with DOC. Additionally, DOC would like to hear your thoughts, comments, suggestions on the availability of forecasting opportunities, the best practices from other agencies that can be utilized by DOC and some improvement opportunities DOC could implement to help businesses when using the acquisition process.

Training, outreach, and technology: DOC understands that training is essential to any organization and would like your thoughts, comments, suggestions on the types of training for DOC acquisition personnel or businesses that improve businesses' ability to participate in the DOC marketplace. Additionally, DOC would like to know your thoughts, comments and suggestions on the best ways to deliver this training to the business community and learn what other Federal organizations do to improve their business outreach strategies. Furthermore, DOC would like your thoughts, comments and suggestions on available technology systems and applications are most helpful to businesses in finding contracting opportunities, and available technological improvements that can be made to existing technologies, or what new applications might be considered to make doing business with DOC more attractive.

An agenda will be posted at Web site http://oam.ocs.doc.gov/ no later than July 31, 2010, with additional details on the structure of the meeting. The meeting may include break-out sessions that focus on individual topics, such as those described at the end of this notice. Therefore, parties may be asked to focus their oral comments on the topic of greatest interest to them.

Dated: July 22, 2010.
Helen Hurcombe,
Senior Procurement Executive, Department of Commerce.

[FR Doc. 2010-18513 Filed 7-28-10; 8:45 am]

BILLING CODE 3510-17-M